FEDERAL COMMUNICATIONS COMMISSION

Public Availability of the Federal Communications Commission's FY 2011 Service Contract Inventory and FY 2010 Service Contract Inventory Analysis

AGENCY: Federal Communications Commission.

ACTION: Notice of public availability of service contract inventory and analysis.

SUMMARY: The Federal Communications Commission is publishing this notice to advise the public of the availability of its FY 2011 Service Contract Inventory and FY 2010 Service Contract Inventory Analysis as required by Section 743 of Division C of the Consolidated Appropriations Act of 2010 (Pub. L. 111-117). The FY 2011 inventory provides information on service contract actions over $25,000 that were made in FY 2011. The information is organized by function to show how contracted resources are distributed throughout the agency. The FY 2010 analysis provides additional information about the Federal Communications Commission's FY 2010 inventory. The FY 2011 inventory and analysis of the FY 2010 inventory have been developed in accordance with guidance issued by the Office of Management and Budget's Office of Federal Procurement Policy (OFPP) on November 5, 2010 and December 19, 2011. The guidance is available online at: http://www.whitehouse.gov/omb/procurement_index_memo.

The Federal Communications Commission has posted its FY 2011 inventory, a summary of the FY 2011 inventory, and its analysis of its FY 2010 inventory on the Federal Communications Commission's Web site at the following link: http://www.fcc.gov/encyclopedia/service-contract-inventory.

FOR FURTHER INFORMATION CONTACT: Questions regarding the service contract inventory or analysis should be directed to Mr. Daniel Daly, Chief of Staff, Office of the Managing Director at (202) 418-1832 or Daniel.Daly@fcc.gov.

Federal Communications Commission.
Marlene H. Dortch,
Secretary, Office of the Secretary, Office of Managing Director.

[FR Doc. 2012-2386 Filed 2-2-12; 8:45 am]

BILLING CODE 6712-01-P